ENVIRONMENTAL PROTECTION AGENCY

[OPP-2003-0090; FRL-7297-4]

EPA's Office of Water and its Contractor, ICF and its Subcontractors RTI, Sci Comm, Inc., and Appl, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to EPA's Office of Water and its contractor, ICF and its subcontractors RTI, Sci Comm, Inc., and Appl, Inc., in accordance with 40 CFR 2.307(h)(3), and 2.308(h)(2). ICF and its subcontractors RTI, Sci Comm, Inc., and Appl, Inc., have been awarded a contract to perform work for EPA's Office of Water. Access to this information will enable ICF and its subcontractors RTI, Sci Comm, Inc., and Appl, Inc., to fulfill the obligations of the contract.

DATES: EPA's Office of Water and its contractor, ICF and its subcontractors RTI, Sci Comm, Inc., and Appl, Inc., will be given access to this information on or before April 21, 2003.

FOR FURTHER INFORMATION CONTACT: Erik R. Johnson, FIFRA Security Officer, Information Resources and Services Division (7502C), Office of Pesticide Programs, Environmental Protection Agency, 1200 Pennsylvania Ave., NW., Washington, DC 20460-0001; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. EPA Docket. EPA has established an official public docket for this action under docket ID number OPP-2003-0090. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA dockets. You may use EPA dockets at http://www.epa.gov/edocket/ to submit or view public comments, access the index listing of the contents of the official public docket, and to access those documents in the public docket that are available electronically. Although, not all docket materials may be available electronically, you may still access any of the publicly available docket materials through the docket facility identified in Unit I.B.1. Once in the system, select “search,” then key in the appropriate docket ID number.

II. Contractor Requirements

Under Contract No. 68-C0-2009, ICF and its subcontractors RTI, Sci Comm, Inc., and Appl, Inc., will perform the following tasks:

1. Human health. The contractor shall prepare summaries of peer-reviewed literature on toxic and clinical endpoints, as specified in a work assignment; screening analyses that display and compare all available data for a pollutant, and build on the summaries; analyses for the purpose of supporting findings; and evaluate, and revise health effects documents.

2. Sewage sludge. The contractor shall provide technical support in the preparation, evaluation, and revision of procedures for selecting pollutants-of-concern in sewage sludge that is used or disposed of, and shall provide technical support during the evaluation of those pollutants.

3. Laboratory analyses and laboratory/field studies. The contractor shall analyze samples (e.g., water waste, surface water, drinking water, or sewage sludge) for pollutants to support development of water quality criteria, maximum contaminate level goals, sewage sludge pollutant limits, and other program requirements, as specified in a work assignment.

OPP has determined that access by ICF and its subcontractors RTI, Sci Comm, Inc., and Appl, Inc., to information on all pesticide chemicals is necessary for the performance of this contract.

Some of this information may be entitled to confidential treatment. The information has been submitted to EPA under sections 3, 4, 6, and 7 of FIFRA and under sections 408 and 409 of FFDCA.

In accordance with the requirements of 40 CFR, 2.307(h)(3), this contract with ICF and its subcontractors RTI, Sci Comm, Inc., and Appl, Inc., prohibits use of the information for any purpose not specified in the contract; prohibits disclosure of the information to a third party without prior written approval from the Agency; and requires that each official and employee of the subcontractor sign an agreement to protect the information from unauthorized release and to handle it in accordance with the FIFRA Information Security Manual. In addition, ICF and its subcontractors RTI, Sci Comm, Inc., and Appl, Inc., are required to submit for EPA approval a security plan under which any CBI will be secured and protected against unauthorized release or compromise. No information will be provided to ICF and its subcontractors RTI, Sci Comm, Inc., and Appl, Inc., until the requirements in this document have been fully satisfied. Records of information provided under this contract will be maintained by EPA Project Officers for this contract. All information supplied to, ICF and its subcontractors RTI, Sci Comm, Inc., and Appl, Inc., by EPA for use in connection with this contract will be returned to EPA when ICF and its subcontractors RTI, Sci Comm, Inc., and Appl, Inc., have completed their work.

List of Subjects

Environmental protection, Business and industry, Government contracts, Government property, Security measures.

Dated: March 27, 2003.
Linda Vlier Moos,
Acting Director, Information Resources and Services Division, Office of Pesticide Programs.

[FR Doc. 03-8373 Filed 4-8-03; 8:45 am]

BILLING CODE 6560-50-S